DEPARTMENT OF HEALTH AND HUMAN SERVICES

National Institutes of Health

Request for Information (RFI): Inviting Comments and Suggestions on a Framework for the NIH-Wide Strategic Plan for FYs 2021-2025

AGENCY: National Institutes of Health, HHS.

ACTION: Notice.

SUMMARY: This Request for Information (RFI) is intended to gather broad public input to assist the National Institutes of Health (NIH) in developing the NIH-Wide Strategic Plan for Fiscal Years (FYs) 2021-2025. NIH invites input from stakeholders throughout the scientific research, advocacy, and clinical practice communities, as well as the general public, regarding the proposed framework for the FY 2021-2025 NIH-Wide Strategic Plan. Organizations are strongly encouraged to submit a single response that reflects the views of their organization and their membership as a whole.

DATES: This RFI is open for public comment for a period of 6 weeks. Comments must be received by 11:59:59 p.m. (ET) on March 25, 2020 to ensure consideration.

ADDRESSES: All comments must be submitted electronically on the submission website, available at https://grants.nih.gov/grants/rfi/rfi.cfm?ID=101.

FOR FURTHER INFORMATION CONTACT: Please direct all inquiries to: Marina Volkov, nihstrategicplan@od.nih.gov, 301.496.4147.

SUPPLEMENTARY INFORMATION: The purpose of the NIH-Wide Strategic Plan is to communicate how NIH will advance its mission to support research in pursuit of fundamental knowledge about the nature and behavior of living systems, and the application of that knowledge to enhance health, lengthen life, and reduce illness and disability.

The current NIH-Wide Strategic Plan (available at: https://www.nih.gov/about-nih/nih-wide-strategic-plan), covering FYs 2016-2020, was submitted to Congress on December 15, 2015. As part of implementing the 21st Century Cures Act (Pub. L. 114-255), NIH will update its Strategic Plan every five years. The agency is currently developing an updated NIH-Wide Strategic Plan, for FYs 2021-2025, and anticipates releasing it in December 2020.

The FY 2021-2025 NIH-Wide Strategic Plan will highlight NIH's approach towards the achievement of its mission while ensuring good stewardship of taxpayer funds. It is not intended to outline the myriad of important research opportunities for specific diseases or conditions. Nor will it focus on the specific research missions of each component Institute, Center and Office. Those opportunities are found within strategic plans that are specific to an Institute, Center, or Office, or specific to a particular disease or disorder. (A list of Institute, Center, or Office-specific, topical, and other NIH-wide or interagency strategic plans is available at https://report.nih.gov/strategicplans/.)

The Framework for the FY 2021-2025 NIH-Wide Strategic Plan, below, articulates NIH's priorities in three key areas (Objectives): Biomedical and behavioral science research; scientific research capacity; and scientific integrity, public accountability, and social responsibility in the conduct of science. These Objectives apply across NIH. In addition, several Cross-Cutting Themes, which span the scope of these Objectives, are identified.

NIH-Wide Strategic Plan Framework

Cross Cutting Themes

• Increasing, Enhancing, and Supporting Diversity

• Improving Women's Health and Minority Health, and Reducing Health Disparities

• Optimizing Data Science and the Development of Technologies and Tools

• Promoting Collaborative Science

• Addressing Public Health Challenges Across the Lifespan

Objective 1: Advancing Biomedical and Behavioral Sciences

• Driving Foundational Science

• Preventing Disease and Promoting Health

• Developing Treatments, Interventions, and Cures

Objective 2: Developing, Maintaining, and Renewing Scientific Research Capacity

• Cultivating the Biomedical Research Workforce

• Supporting Research Resources and Infrastructure

Objective 3: Exemplifying and Promoting the Highest Level of Scientific Integrity, Public Accountability, and Social Responsibility in the Conduct of Science

• Fostering a Culture of Good Scientific Stewardship

• Leveraging Partnerships

• Ensuring Accountability and Confidence in Biomedical and Behavioral Sciences

• Optimizing Operations

The NIH seeks comments on any or all of, but not limited to, the following topics:

• Cross-Cutting Themes articulated in the framework, and/or additional cross-cutting themes that may be considered

• NIH's priorities across the three key areas (Objectives) articulated in the framework, including potential benefits, drawbacks or challenges, and other priority areas for consideration

• Future opportunities or emerging trans-NIH needs

NIH encourages organizations (e.g., patient advocacy groups, professional organizations) to submit a single response reflective of the views of the organization or membership as a whole.

Responses to this RFI are voluntary and may be submitted anonymously. Please do not include any personally identifiable information or any information that you do not wish to make public. Proprietary, classified, confidential, or sensitive information should not be included in your response. The Government will use the information submitted in response to this RFI at its discretion. The Government reserves the right to use any submitted information on public websites, in reports, in summaries of the state of the science, in any possible resultant solicitation(s), grant(s), or cooperative agreement(s), or in the development of future funding opportunity announcements. This RFI is for informational and planning purposes only and is not a solicitation for applications or an obligation on the part of the Government to provide support for any ideas identified in response to it. Please note that the Government will not pay for the preparation of any information submitted or for use of that information.

We look forward to your input and hope that you will share this RFI opportunity with your colleagues.

Dated: February 7, 2020.
Lawrence A. Tabak,
Principal Deputy Director, National Institutes of Health.

[FR Doc. 2020-02919 Filed 2-12-20; 8:45 am]

BILLING CODE 4140-01-P